DEPARTMENT OF DEFENSE

Office of the Secretary

[Docket ID: DoD-2024-OS-0066]

Privacy Act of 1974; System of Records

AGENCY: Department of Defense (DoD).

ACTION: Notice of a new system of records.

SUMMARY: In accordance with the Privacy Act of 1974, the DoD is establishing a new Department-wide system of records titled, “Defense Debt Management Records,” DoD-0022. This system of records covers DoD's maintenance of records about individuals who have an outstanding debt owed to DoD, and the documentation relating to the debt collection activities.

DATES: This system of records is effective upon publication; however, comments on the Routine Uses will be accepted on or before July 15, 2024. The Routine Uses are effective at the close of the comment period.

ADDRESSES: You may submit comments, identified by docket number and title, by any of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Rahwa Keleta, Privacy and Civil Liberties Directorate, Office of the Assistant to the Secretary of Defense for Privacy, Civil Liberties, and Transparency, Department of Defense, 4800 Mark Center Drive, Mailbox #24, Suite 08D09, Alexandria, VA 22350-1700; OSD.DPCLTD@mail.mil; (703) 571-0070.

SUPPLEMENTARY INFORMATION:

I. Background

DoD is establishing the Defense Debt Management Records, DoD-0022 as a DoD-wide Privacy Act system of records. A DoD-wide system of records notice (SORN) supports DoD paper or electronic recordkeeping systems operated by more than one DoD component that maintain the same kind of information about individuals for the same purpose. Establishment of DoD-wide SORNs helps DoD standardize the rules governing the collection, maintenance, use, and sharing of personal information in key areas across the enterprise. DoD-wide SORNs also reduce duplicative and overlapping SORNs published by separate DoD components. The creation of DoD-wide SORNs is expected to make locating relevant SORNs easier for DoD personnel and the public and create efficiencies in the operation of the DoD privacy program.

This system covers debt management records maintained by all components of DoD, wherever they are maintained. The system consists of both electronic and paper records and will be used by DoD components to maintain records about debts owed from DoD-affiliated individuals, including Military service members, civilian employees, dependents and family members, contractors, and other individuals. Debts may include but are not limited to: (1) overdue debts owed to DoD, and (2) overpayment of benefits to individuals. The collection and maintenance of this information will assist the DoD in meeting its obligations under law, regulation, and policy to ensure debt management is successfully accomplished.

Additionally, pursuant to 5 U.S.C. 552a(b)(12), disclosures may be made from this system to consumer reporting agencies in accordance with 31 U.S.C. 3711(e).

DoD SORNs have been published in the Federal Register and are available from the address in FOR FURTHER INFORMATION CONTACT or on the Privacy and Civil Liberties Directorate website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, the DoD has provided a report of this system of records to the OMB and to Congress.

Dated: June 10, 2024.
Aaron T. Siegel,
Alternate OSD Federal Register Liaison Officer, Department of Defense.

SYSTEM NAME AND NUMBER:

Defense Debt Management Records, DoD-0022.

SECURITY CLASSIFICATION:

Unclassified.

SYSTEM LOCATION:

Department of Defense (Department or DoD), located at 1000 Defense Pentagon, Washington, DC 20301-1000, and other Department installations, offices, or mission locations. Information may also be stored within a government-certified cloud, implemented, and overseen by the Department's Chief Information Officer (CIO), 6000 Defense Pentagon, Washington, DC 20301-6000.

SYSTEM MANAGER(S):

The system managers for this system of records are as follows:

A. Chief Financial Officer, Office of the Under Secretary of Defense (Comptroller), 4000 Defense Pentagon, Washington DC 20301-4000. whs.mc-alex.esd.mbx.osd-js-foia-requester-service-center@mail.mil.

B. Commander, Army and Air Force Exchange Service, 3911 S Walton Walker Boulevard, Dallas, TX 75236-1598.

C. Policy official Commander, Navy Exchange Service Command, 3280 Virginia Beach Boulevard, Virginia Beach, VA 23452-5724.

D. Director, Marine Corps Business and Support Services Division (MR) Headquarters, U.S. Marine Corps, 3044 Catlin Ave., Quantico, VA 22134-500.

E. Director, Defense Finance and Accounting Services, Debt and Claims Department, 8899 East 56th Street, Indianapolis, IN 46249-2700, telephone number (866) 912-6488.

F. The Privacy Act responsibilities concerning access, amendment, and disclosure of the records have been delegated to the DoD components. DoD components include the Military Departments of the Army, Air Force (including the U.S. Space Force), and Navy (including thee U.S. Marine Corps), field commands, installations, and activities. To contact the system managers at the DoD component with oversight of the records, go visit www.FOIA.gov to locate the contact information for each component's Freedom of Information Act (FOIA) office.

AUTHORITY FOR MAINTENANCE OF THE SYSTEM:

5 U.S.C. 5514, Installment Deduction for Indebtedness to the United States; 10 U.S.C. 113, Secretary of Defense; 10 U.S.C. 2783, Nonappropriated Fund Instrumentalities: Financial Management and Use of Nonappropriated funds; 10 U.S.C. Chapter 47—Uniform Code Of Military Justice; 31 U.S.C. 3716, Administrative Offset; 37 U.S.C. 1007, Deductions from pay; Federal Claims Collection Act of 1966 (Pub. L. 89-508, as amended); Debt Collection Act of 1982 (Pub. L. 97-365) as amended by the Debt Collection Improvement Act of 1996 (Pub. L. 104-134, Section 31001); DoD 7000.14-R, Department of Defense Financial Management Regulation, Volume 16: Department of Defense Debt Management; and Executive Order 9397 (SSN), as amended.

PURPOSE(S) OF THE SYSTEM:

A. To support the receipt, review, and evaluation of submissions made to DoD debt management activities, (debt owed to DoD) on behalf of individuals and the outcome of such submissions under 31 U.S.C. 3711, Collection and Compromise. Debts may include but are not limited to: (1) overdue debts owed to DoD, and (2) overpayment of benefits to individuals.

B. To support and track the establishment, collection, compromise, and appeal of debts individuals owe to DoD.

C. To track DoD debt management data for statistical analysis and reporting for business optimization and to support regulatory requirements for reporting debt.

Note: Data from this system of records may be used to support investigation and law enforcement actions for legal and administrative actions. These records are covered under other system of records notices.

CATEGORIES OF INDIVIDUALS COVERED BY THE SYSTEM:

Individuals who owe debt to DoD, or whom debts to DoD have been paid or cancelled.

CATEGORIES OF RECORDS IN THE SYSTEM:

Records in this system include information regarding submissions made to DoD debt management activities. Records include:

A. Personal information: Name; customer ID number, Social Security Number (SSN), and driver's license number; date of birth; contact information; and any other information necessary to identity the individual.

B. Employment information: Employer's name and contact information, branch of service, position/grade/rank/title, personal identifiers to include DoD ID number, employee ID number, and vendor ID number, military affiliation information to include status (active duty, active/inactive reserve, retired, civilian, and dependent); and branch of Service.

C. Records establishing and relating to the debt submission: Information includes supporting documents and correspondence that are relevant to the nature of the matter to determine debt liability, document subsequent actions taken and due process provided, and meet regulatory requirements.

D. Personal financial information: Bank name, bank account number, routing number, check number, credit and debit card numbers, debt financial statements and communication, bankruptcy filing and dispatch by the court; credit reports, and garnishment orders.

RECORD SOURCE CATEGORIES:

Records and information stored in this system of records are obtained from: individual debtor, DoD component activity recordkeeping systems that contain information relating to the debt; the Internal Revenue Service; consumer reporting agencies; Department of Treasury, private collection services, and banks, credit unions, and other financial institutions that process payments.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a Routine Use pursuant to 5 U.S.C. 552a(b)(3) as follows:

A. To contractors, grantees, experts, consultants, students, and others performing or working on a contract, service, grant, cooperative agreement, or other assignment for the Federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is relevant and necessary.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State, or local agency for the purpose of comparing to the agency's system of records or to non-Federal records, in coordination with an Office of Inspector General in conducting an audit, investigation, inspection, evaluation, or other review as authorized by the Inspector General Act of 1978, as amended.

J. To such recipients and under such circumstances and procedures as are mandated by Federal statute or treaty.

K. To appropriate Federal, State, local, territorial, tribal, foreign, or international agencies for the purpose of counterintelligence activities authorized by U.S. law or Executive Order, or for the purpose of executing or enforcing laws designed to protect the national security or homeland security of the United States, including those relating to the sharing of records or information concerning terrorism, homeland security, or law enforcement.

L. To credit card processors, banks, and other financial institutions to process payments made by credit or debit cards, by check, or other payment methods.

M. To the Internal Revenue Service to obtain taxpayer mailing address information for a debtor. Taxpayer mailing address information obtained from the IRS may only be used to locate the individual to collect or compromise a debt owed to DoD.

N. To the U.S. Department of the Treasury for centralized administrative or salary offset, including the offset of federal income tax refunds, for the purpose of collecting debts owed to the DoD.

O. To contracted private collection agencies for the purpose of obtaining debt collection services, including administrative wage garnishment (AWG), to recover debts owed to the DoD. This routine use authorizes the disclosure of taxpayer address information to private collection agencies for the sole purpose of locating the individual to collect or compromise a debt owed to DoD.

P. To consumer reporting agencies, the disclosure of taxpayer mailing address information obtained from the Internal Revenue Service for the limited purpose of DoD obtaining a commercial credit report.

Authorized Disclosure to Consumer Reporting Agencies Pursuant to 5 U.S.C. 552a(b)(12):

DoD may disclose information from this system of records concerning overdue debts to consumer reporting agencies as defined by 15 U.S.C. 1681a(f) or 31 U.S.C. 3701(a)(3). The following information may be disclosed to consumer reporting agencies from this system of records: the individual's name, address (disclosure of a taxpayer mailing address obtained from the IRS is not authorized), taxpayer identification number (SSN), and other information necessary to establish the identity of the individual; the amount, status, and history of the debt; and the agency or program under which the debt arose.

POLICIES AND PRACTICES FOR STORAGE OF RECORDS:

Records may be stored electronically or on paper in secure facilities in a locked drawer behind a locked door. Electronic records may be stored locally on digital media; in agency-owned cloud environments; or in vendor Cloud Service Offerings certified under the Federal Risk and Authorization Management Program (FedRAMP).

POLICIES AND PRACTICES FOR RETRIEVAL OF RECORDS:

Records may be retrieved by the individual's full name and DoD ID number, SSN, or date of birth.

POLICIES AND PRACTICES FOR RETENTION AND DISPOSAL OF RECORDS:

General Records Schedule 1.1 provides that debt collection case files are retained for 6 years after final payment or cancellation, but longer retention is authorized if required for business use.

ADMINISTRATIVE, TECHNICAL, AND PHYSICAL SAFEGUARDS:

DoD safeguards records in this system of records according to applicable rules, policies, and procedures, including all applicable DoD automated systems security and access policies. DoD policies require the use of controls to minimize the risk of compromise of personally identifiable information (PII), which includes records covered by the Privacy Act, in paper and electronic form, and to limit access to those with a need to know and with appropriate clearances. Additionally, DoD has established security audit and accountability policies and procedures which support the safeguarding of PII and detection of potential PII incidents. DoD routinely employs safeguards, such as the following, to paper-based and electronic information systems, including those comprising Privacy Act systems of records: Multifactor log-in authentication including Common Access Card (CAC) authentication and password; physical token as required; physical and technological access controls governing access to data; network encryption to protect data transmitted over the network; disk encryption securing disks storing data; key management services to safeguard encryption keys; masking of sensitive data as practicable; mandatory information assurance and privacy training for individuals who will have access; identification, marking, and safeguarding of PII; physical access safeguards including multifactor identification physical access controls, detection and electronic alert systems for access to servers and other network infrastructure; and electronic intrusion detection systems in DoD facilities.

RECORD ACCESS PROCEDURES:

Individuals seeking access to their records should follow the procedures in 32 CFR part 310. Individuals should address written inquiries to the DoD office with oversight of the records, as the component has Privacy Act responsibilities concerning access, amendment, and disclosure of the records within this system of records. The public may identify the contact information for the appropriate DoD office through the following website: www.FOIA.gov. Signed written requests should contain the name and number of this system of records notice along with the individual's full name, current address, and email address. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310.

NOTIFICATION PROCEDURES:

Individuals seeking to determine whether information about themselves is contained in this system of records should follow the instructions for Record Access Procedures above.

EXEMPTIONS PROMULGATED FOR THE SYSTEM:

None.

HISTORY:

None.

[FR Doc. 2024-13119 Filed 6-13-24; 8:45 am]

BILLING CODE 6001-FR-P